DEPARTMENT OF THE INTERIOR

Bureau of Reclamation

Glen Canyon Dam Adaptive Management Work Group (AMWG), Notice of Meeting

AGENCY: Bureau of Reclamation, Interior.

ACTION: Notice of public meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Date and Location: The AMWG will conduct the following public meeting:

Phoenix, Arizona—March 2-3, 2005. The meeting will begin at 10 a.m. and conclude at 5 p.m. on the first day and will begin at 8 a.m. and conclude at 3 p.m. on the second day. The meeting will be held at the Arizona Department of Water Resources, 500 N. Third Street, Conference Rooms A&B, Phoenix, Arizona.

Agenda: The purpose of the meeting will be to review the Fiscal Year 2004 budget expenditures, the FY06 Draft Budget and Work Plan, updates on plans currently in development, and other monitoring and research reports. Other topics of discussion will include status of the Colorado River Basin Fund, Programmatic Agreement membership, basin hydrology, the Humpback Chub Comprehensive Plan, public outreach, environmental compliance progress on proposed actions, as well as other administrative and resource issues pertaining to the AMP.

Time will be allowed for any individual or organization wishing to make formal oral comments (limited to 5 minutes) at the meeting. To allow full consideration of information by the AMWG members, written notice must be provided to Dennis Kubly, Bureau of Reclamation, Upper Colorado Regional Office, 125 South State Street, Room 6107, Salt Lake City, Utah, 84138; telephone (801) 524-3715; faxogram (801) 524-3858; e-mail at dkubly@uc.usbr.gov at least five (5) days prior to the meeting. Any written comments received will be provided to the AMWG and TWG members.

FOR FURTHER INFORMATION CONTACT: Dennis Kubly, telephone (801) 524-3715; faxogram (801) 524-3858; or via e-mail at dkubly@uc.usbr.gov.

Dated: January 24, 2005.
Randall V. Peterson,
Manager, Environmental Resources Division, Upper Colorado Regional Office, Salt Lake City, Utah.

[FR Doc. 05-2142 Filed 2-3-05; 8:45 am]

BILLING CODE 4310-MN-P